Title 3—

The President

Proclamation 8730 of October 6, 2011

National Energy Action Month, 2011

By the President of the United States of America

A Proclamation

Throughout our history, America’s energy resources have laid the foundation for our Nation’s economic security and prosperity, powering our factories, lighting our classrooms, and warming our homes. Today, we stand at a critical juncture. As global demand for energy grows, the United States must take bold action to create a more secure energy future and build a competitive 21st-century clean energy economy.

Over the past two and a half years, my Administration has taken unprecedented action to ensure America leads in the development and deployment of clean energy. To that end, we have made the largest investments in clean energy in our Nation’s history, which are giving rise to cutting-edge technologies, creating new American jobs and industries, and putting us on track to doubling renewable energy capacity in the United States by the end of next year. At the same time, we have expanded safe and responsible development of our domestic energy resources.

To help save consumers money at the pump and on their energy bills, my Administration has set historic new fuel economy standards for cars and trucks and taken steps to increase the efficiency of our homes and buildings. We have established common-sense and cost-effective standards to reduce harmful pollution, protecting our environment and the public health. And we are leading by example, requiring the Federal Government to increase energy efficiency, reduce waste, and use its scale and resources to advance a clean energy economy.

Taken together, these steps are helping unlock American innovation, create hundreds of thousands of jobs, and increase our Nation’s competitiveness in the global economy. But these steps must mark the beginning of our efforts, not the end. Today, the stakes are high and the global competition to lead in clean energy is more intense than ever before. The United States cannot afford to fall behind on what will be one of the keys to our success in the future.

Across our Nation, millions of Americans are already doing their part. Farmers are pushing the envelope to develop advanced and renewable fuels, young people are taking action to make their schools and communities more sustainable, and our best scientists, engineers, and entrepreneurs are working together to move new ideas and technologies from the lab to the marketplace. If America can do what it does best—tap into the talents, skills, and creativity of our people to meet the challenges of our time—we will not just lead the clean energy economy, we will lead the 21st-century global economy.

NOW, THEREFORE, I, BARACK OBAMA, President of the United States of America, by virtue of the authority vested in me by the Constitution and the laws of the United States, do hereby proclaim October 2011 as National Energy Action Month. I call upon the citizens of the United States to recognize this month by making cleaner energy choices that will help build a stronger Nation, a more robust economy, and a healthier environment for our children.

IN WITNESS WHEREOF, I have hereunto set my hand this sixth day of October, in the year of our Lord two thousand eleven, and of the Independence of the United States of America the two hundred and thirty-sixth.

[FR Doc. 2011-26560

Filed 10-11-11; 11:15 am]

Billing code 3295-F2-P